DEPARTMENT OF TRANSPORTATION

Office of the Secretary

49 CFR Parts 27, 37, 38

[Docket No. OST-2006-23985]

RIN 2105-AD54

Transportation for Individuals With Disabilities

AGENCY: Office of the Secretary (OST), U.S. Department of Transportation (DOT).

ACTION: Extension of comment period on proposed rule.

SUMMARY: The Department is extending through July 28, 2006, the period for interested persons to submit comments to its proposed rule concerning modifications to the Department's Americans with Disabilities Act and related rules.

DATES: Comments must be received by July 28, 2006. Comments received after this date will be considered to the extent practicable.

ADDRESSES: You may submit comments identified by the docket number [OST-2006-23985] by any of the following methods: (1) Federal eRulemaking Portal: http://www.regulations.gov (follow the instructions for submitting comments); (2) Web Site: http://dms.dot.gov (follow the instructions for submitting comments on the DOT electronic docket site); (3) Fax: 1-202-493-2251; (4) Mail: Docket Management System; U.S. Department of Transportation, 400 Seventh Street, SW., Nassif Building, Room PL-401, Washington, DC 20590-001; or (5) Hand Delivery: To the Docket Management System; Room PL-401 on the plaza level of the Nassif Building, 400 Seventh Street, SW., Washington, DC between 9 a.m. and 5 p.m., Monday through Friday, except Federal Holidays.

You should include the agency name and docket number [OST-2006-23985] or the Regulatory Identification Number (RIN) for this notice at the beginning of your comment. Note that all comments received will be posted without change to http://dms.dot.gov including any personal information provided. Please see the Privacy Act section of this document. You may view the public docket through the Internet at http://dms.dot.gov or in person at the Docket Management System office at the above address.

FOR FURTHER INFORMATION CONTACT: Robert C. Ashby, Deputy Assistant General Counsel for Regulation and Enforcement, 400 7th Street, SW., Room 10424, Washington DC 29590. Phone: 202-366-9310. TTY: 202-755-7687. Fax: 202-366-9313. E-mail: bob.ashby@dot.gov .

SUPPLEMENTARY INFORMATION: On February 27, 2006, the Department of Transportation (DOT or Department) issued a notice of proposed rulemaking (NPRM) that proposed to amend the Department's Americans with Disabilities Act (ADA) rule and related regulations (71 FR 9761). The proposed amendments concerned a variety of subjects, including rail station platform accessibility and ADA paratransit system requirements. The NPRM also sought comment on several upcoming issues of interest concerning surface transportation accessibility. The comment closing dates were April 28 for the proposed amendments to the ADA and related rules and May 28 for the other issues on which the Department sought comment.

On April 7, 2006, Amtrak, supported by the Association of American Railroads, requested an extension of the comment period through July 28, 2006, citing concerns about the effects of proposed amendments concerning rail station platform accessibility on its statutory obligation to make its stations accessible by 2010.

The Department agrees that an extension of the comment period would be useful to permit Amtrak additional time to assess its situation with respect to rail station accessibility, as it may be affected by the proposed rule. In addition, such an extension will give other parties additional time to consider the issues the NPRM raises and provide thoughtful comments to the Department. Accordingly, the Department finds that good cause exists to extend the comment period on the proposed rule from April 28, 2006, to July 28, 2006. This extension applies to all parts of the NPRM.

Issued in Washington, DC, this 24th day of April, 2006.
Jeffrey A. Rosen,
General Counsel.

[FR Doc. 06-4069 Filed 4-28-06; 8:45 am]

BILLING CODE 4910-9X-P